SECURITIES AND EXCHANGE COMMISSION

[Release No. 34-49346; File No. SR-BSE-2003-31]

Self-Regulatory Organizations; Boston Stock Exchange, Incorporated; Order Granting Approval of Proposed Rule Change to Extend Trading Hours From 8 a.m. Until 9:28 a.m., and From 4:16 p.m. Until 6:30 p.m. to Allow for the Execution of Matched Orders Only

March 1, 2004.

On December 22, 2003, the Boston Stock Exchange, Incorporated (“BSE” or “Exchange”) filed with the Securities and Exchange Commission (“Commission”), pursuant to Section 19(b)(1) of the Securities Exchange Act of 1934 (“Act”) ¹ and Rule 19b-4 thereunder,² a proposed rule change to provide for the execution of matched orders, specifically designated and submitted with a contra order matched in price and size, outside of the regular 9:30 a.m. to 4 p.m. Primary Session, and the 4:01 p.m. to 4:15 p.m. Post Primary Session.³ The proposed rule change was published for comment in the Federal Register on January 28, 2004.⁴ The Commission received no comments on the proposal. This order approves the proposed rule change.

¹ 15 U.S.C. 78s(b)(1).

² 17 CFR 240.19b-4.

³ All times listed herein are Eastern time.

⁴ See Securities Exchange Act Release No. 49117 (January 22, 2004), 69 FR 4186.

The Commission finds that the proposed rule change is consistent with the requirements of the Act and the rules and regulations thereunder applicable to a national securities exchange,⁵ and in particular, the requirements of Section 6(b)(5) of the Act ⁶ and the rules and regulations thereunder. The Commission believes that extending trading hours from 8 a.m. until 9:28 a.m., and from 4:16 p.m. until 6:30 p.m. to allow for the execution of matched orders, specifically designated and submitted with a contra order matched exactly as to security, size, price, and time of entry, is reasonably designed to promote just and equitable principles of trade, to remove impediments to and perfect the mechanism of a free and open market and a national market system, and, in general, to protect investors and the public interest. The Commission notes that the Exchange shall designate trades executed and reported outside of the Primary Session as .T trades. Further, the Commission notes that the Exchange shall not permit its members to accept any orders for execution outside of the Primary Session without making certain customer disclosures, and shall retain any orders, not specifically designated for execution outside the Primary Session, for entry into the Primary Session upon execution eligibility at 9:30 a.m.

⁵ In approving this proposed rule change, the Commission has considered the proposed rule's impact on efficiency, competition, and capital formation. 15 U.S.C. 78c(f).

⁶ 15 U.S.C. 78f(b)(5).

It is therefore ordered, pursuant to Section 19(b)(2) of the Act,⁷ that the proposed rule change (SR-BSE-2003-31) is approved.

⁷ 15 U.S.C. 78s(b)(2).

For the Commission, by the Division of Market Regulation, pursuant to delegated authority.⁸
⁸ 17 CFR 200.30-3(a)(12).
Margaret H. McFarland,
Deputy Secretary.

[FR Doc. 04-5052 Filed 3-5-04; 8:45 am]

BILLING CODE 8010-01-P